DEPARTMENT OF TRANSPORTATION

Federal Motor Carrier Safety Administration

[Docket No. FMCSA-2013-0168]

Qualification of Drivers; Exemption Applications; Vision

AGENCY: Federal Motor Carrier Safety Administration (FMCSA), DOT.

ACTION: Notice of applications for exemptions; request for comments.

SUMMARY: FMCSA announces receipt of applications from 38 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 22, 2013.

ADDRESSES: You may submit comments bearing the Federal Docket Management System (FDMS) Docket No. FMCSA-2013-0168 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 38 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Ernest J. Bachman

Mr. Bachman, age 50, has complete loss of vision in his right eye due to a traumatic incident in 1975. The visual acuity in his right eye is no light perception, and in his left eye, 20/20. Following an examination in 2013, his optometrist noted, “In my opinion he has sufficient vision to operate a commercial vehicle.” Mr. Bachman reported that he has driven straight trucks for 32 years, accumulating 6,400 miles, and tractor-trailer combinations for 32 years, accumulating 12,800 miles. He holds a Class A Commercial Driver's License (CDL) from Pennsylvania. His driving record for the last 3 years shows no crashes and no convictions for moving violations in a CMV.

A. Wayne Barker

Mr. Barker, 70, has had a retinal detachment in his right eye since 2010. The visual acuity in his right eye is counting fingers, and in his left eye, 20/20. Following an examination in 2013, his ophthalmologist noted, “In my medical opinion, Wayne has sufficient vision to perform driving tasks required to operate a commercial vehicle.” Mr. Barker reported that he has driven straight trucks for 52 years, accumulating 1.3 million miles, and tractor-trailer combinations for 49 years, accumulating 2.2 million miles. He holds a Class A CDL from Oklahoma. His driving record for the last 3 years shows no crashes and no convictions for moving violations in a CMV.

Edgar G. Baxter

Mr. Baxter, 74, has had a vascular occlusion in his left eye since 2010. The visual acuity in his right eye is 20/30, and in his left eye, 20/200. Following an examination in 2013, his optometrist noted, “I certify that, in my medical opinion, this patient has sufficient vision to operate a commercial motor vehicle.” Mr. Baxter reported that he has driven tractor-trailer combinations for 32 years, accumulating 4.16 million miles. He holds a Class A CDL from Florida. His driving record for the last 3 years shows no crashes and no convictions for moving violations in a CMV.

Jason W. Bowers

Mr. Bowers, 26, has had Coat's disease in his right eye since childhood. The visual acuity in his right eye is no light perception, and in his left eye, 20/20. Following an examination in 2013, his optometrist noted, “This patient has sufficient vision to perform the driving tasks required to operate a commercial vehicle.” Mr. Bowers reported that he has driven tractor-trailer combinations for 3 years, accumulating 75,000 miles. He holds a Class A CDL from Oregon. His driving record for the last 3 years shows no crashes and no convictions for moving violations in a CMV.

Scott Brady

Mr. Brady, 47, has had a central vein occlusion in his right eye since 2010. The visual acuity in his right eye is light perception, and in his left eye, 20/20. Following an examination in 2013, his optometrist noted, “In my medical opinion, Mr. Brady has sufficient vision to perform the driving tasks required to operate a commercial vehicle.” Mr. Brady reported that he has driven straight trucks for 6 years, accumulating 108,000 miles, and tractor-trailer combinations for 11 years, accumulating 198,000 miles. He holds a Class A CDL from Florida. His driving record for the last 3 years shows no crashes and no convictions for moving violations in a CMV.

Ronald A. Cleaver, Jr.

Mr. Cleaver, 24, has had anisometropic amblyopia in his left eye since childhood. The visual acuity in his right eye is 20/20, and in his left eye, 20/100. Following an examination in 2013, his ophthalmologist noted, “His current degree of peripheral vision and good best-corrected acuity in his right eye should allow him to be safe operating a commercial vehicle.” Mr. Cleaver reported that he has driven straight trucks for 10 years, accumulating 17,500 miles, and tractor-trailer combinations for 2 years, accumulating 2,000 miles. He holds an operator's license from South Carolina. His driving record for the last 3 years shows no crashes and no convictions for moving violations in a CMV.

Eric V. DeFrancesco

Mr. DeFrancesco, 35, has had aniosometropic amblyopia in his right eye since childhood. The visual acuity in his right eye is 20/60, and in his left eye, 20/20. Following an examination in 2013, his ophthalmologist noted, “It is my medical opinion within a reasonable degree of medical certainty that he has sufficient visual ability to perform all of the driving tasks required to operate a commercial vehicle.” Mr. DeFrancesco reported that he has driven straight trucks for 5.5 years, accumulating 137,500 miles. He holds an operator's license from Pennsylvania. His driving record for the last 3 years shows no crashes and no convictions for moving violations in a CMV.

Matthew A. Eck

Mr. Eck, 60, has had amblyopia in his right eye since childhood. The visual acuity in his right eye is 20/200, and in his left eye, 20/20. Following an examination in 2013, his optometrist noted, “In summary, Mr. Eck's amblyopia with his right eye is long-standing and stable, and in my opinion, he has sufficient vision to perform the driving tasks required to operate a commercial vehicle.” Mr. Eck reported that he has driven straight trucks for 37 years, accumulating 222,000 miles. He holds a Class A CDL from Pennsylvania. His driving record for the last 3 years shows no crashes and no convictions for moving violations in a CMV.

David E. Ferris

Mr. Ferris, 70, has had complete loss of vision in his right eye since 1991. The visual acuity in his right eye is no light perception, and in his left eye, 20/20. Following an examination in 2013, his ophthalmologist noted, “I, therefore, certify that in my medical opinion, the patient has sufficient vision to perform his driving tasks to operate a commercial vehicle.” Mr. Ferris reported that he has driven straight trucks for 47.5 years, accumulating 1.19 million miles, and tractor-trailer combinations for 10 years, accumulating 1 million miles. He holds a Class A CDL from Pennsylvania. His driving record for the last 3 years shows no crashes and no convictions for moving violations in a CMV.

George M. Hapchuk

Mr. Hapchuk, 59, has had strabismic amblyopia in his left eye since childhood. The visual acuity in his right eye is 20/20, and in his left eye, 20/200. Following an examination in 2012, his optometrist noted, “It is my impression that George Hapchuk has adequate vision to perform the tasks to operate a commercial vehicle.” Mr. Hapchuk reported that he has driven straight trucks for 38 years, accumulating 1.2 million miles. He holds a Class BM CDL from Pennsylvania. His driving record for the last 3 years shows no crashes and no convictions for moving violations in a CMV.

James L. Hawthorne

Mr. Hawthorne, 51, has a prosthetic right eye due to a traumatic incident during childhood. The visual acuity in his right eye is no light perception, and in his left eye, 20/20. Following an examination in 2013, his optometrist noted, “James Hawthorne . . . truck driver . . . Prosthetic right eye. The left eye's field is normal . . . Applicant should be good to drive with appropriate head turn adjustments and with caution.” Mr. Hawthorne reported that he has driven straight trucks for 32 years, accumulating 800,000 miles and tractor-trailer combinations for 32 years, accumulating 1.12 million miles. He holds a Class AM CDL from Texas. His driving record for the last 3 years shows no crashes and no convictions for moving violations in a CMV.

Johnny D. Ivey

Mr. Ivey, 71, has had glaucoma in his left eye since childhood. The visual acuity in his right eye is 20/20, and in his left eye, counting fingers. Following an examination in 2013, his ophthalmologist noted, “His visual defect is long standing (since childhood) in the left eye and does not affect his ability to drive safely. He can drive a commercial tractor trailer [sic].” Mr. Ivey reported that he has driven tractor-trailer combinations for 25 years, accumulating 1.42 million miles. He holds a Class A CDL from North Carolina. His driving record for the last 3 years shows no crashes and one conviction for a moving violation in a CMV; he was following too closely.

Darryl H. Johnson

Mr. Johnson, 50, has had a hemorrhage in his left eye for 40 years. The visual acuity in his right eye is 20/15, and in his left eye, 20/100. Following an examination in 2013, his ophthalmologist noted, “Therefore, for the past 15 years, this patient has successfully operated a commercial vehicle with 20/15 vision in the right eye and less than 20/200 vision in the left eye. The current status of the left eye is such that it is not likely that any form of visual rehabilitation will be possible. So for the future, the patient will operate with 20/15 vision in the right eye, and less than 20/200 vision in the left eye, which has been successful for him with respect to his operating a commercial vehicle for 15 years. This letter is to request a waver [sic] for the visual requirements for binocular vision for this particular patient, who has been quite successful with his current level of vision which is expected to be stable in the future.” Mr. Johnson reported that he has driven straight trucks for 2 years, accumulating 20,000 miles, and tractor-trailer combinations for 22 years, accumulating 3.3 million miles. He holds a Class A CDL from West Virginia. His driving record for the last 3 years shows no crashes and no convictions for moving violations in a CMV.

David Jones

Mr. Jones, 49, has a prosthetic right eye due to a traumatic incident during childhood. The visual acuity in his right eye is no light perception, and in his left eye, 20/20. Following an examination in 2013, his optometrist noted, “It is in my professional opinion that Mr. Jones has sufficient vision to perform the driving tasks required to operate a commercial vehicle.” Mr. Jones reported that he has driven straight trucks for 2.5 years, accumulating 25,000 miles. He holds a Class B CDL from Florida. His driving record for the last 3 years shows no crashes and no convictions for moving violations in a CMV.

Thomas L. Kitchen

Mr. Kitchen, 54, has been nearsighted in his right eye since childhood. The visual acuity in his right eye is 20/300, and in his left eye, 20/20. Following an examination in 2012, his ophthalmologist noted, “Even though Mr. Kitchen's vision does not meet normal standards for a commercial driver's license, his vision has been in the same range for many years and I believe that his vision is sufficient for operating a commercial vehicle.” Mr. Kitchen reported that he has driven straight trucks for 27 years, accumulating 2.36 million miles, and tractor-trailer combinations for 27 years, accumulating 2.36 million miles. He holds a Class A CDL from Virginia. His driving record for the last 3 years shows no crashes and no convictions for moving violations in a CMV.

Wayne C. Knighton

Mr. Knighton, 54, has had maculopathy in his right eye since 2009. The visual acuity in his right eye is 20/200, and in his left eye, 20/15. Following an examination in 2013, his optometrist noted, “In my medical opinion Mr. Knighton has sufficient vision to perform the driving tasks required to operate a commercial vehicle.” Mr. Knighton reported that he has driven straight trucks for 30 years, accumulating 360,000 miles. He holds a Class B CDL from Nevada. His driving record for the last 3 years shows no crashes and no convictions for moving violations in a CMV.

Brandon C. Koopman

Mr. Koopman, 29, has aphakia and a corneal scar in his left eye due to a traumatic incident during childhood. The visual acuity in his right eye is 20/20, and in his left eye, counting fingers. Following an examination in 2013, his ophthalmologist noted, “Vision is stable. Vision in the left eye is limited due to long standing injury as a child. Brandon has adapted to this and has functioned normally throughout life. He has excellent eye health in his right eye. While the ultimate decision rests on the DOT in my opinion Brandon has sufficient visual capacity to perform driving tasks and operate a commercial vehicle.” Mr. Koopman reported that he has driven straight trucks for 8 years, accumulating 4,000 miles. He holds an operator's license from Nebraska. Her driving record for the last 3 years shows no crashes and no convictions for moving violations in a CMV.

David G. Lamborn

Mr. Lamborn, 61, has had a branch retinal vein occlusion in his left eye since 2003. The visual acuity in his right eye is 20/20, and in his left eye, 20/50. Following an examination in 2013, his optometrist noted, “In my opinion, Mr. Lamborn presents with sufficient vision to perform the driving tasks required to operate a commercial vehicle.” Mr. Lamborn reported that he has driven straight trucks for 1.5 years, accumulating 180,000 miles, tractor-trailer combinations for 6 months, accumulating 12,000 miles, and buses for 2 years, accumulating 36,000 miles. He holds a Class AM CDL from North Dakota. His driving record for the last 3 years shows one crash, for which he was not cited and to which he did not contribute, and no convictions for moving violations in a CMV.

Robert A. Marks

Mr. Marks, 52, has had ocular toxoplasmosis in his left eye since childhood. The visual acuity in his right eye is 20/20, and in his left eye, 20/400. Following an examination in 2013, his ophthalmologist noted, “Mr. Marks has sufficient vision to perform driving tasks to operate a commercial vehicle.” Mr. Marks reported that he has driven straight trucks for 22 years, accumulating 44,000 miles. He holds an operator's license from West Virginia. His driving record for the last 3 years shows no crashes and one conviction for a moving violation in a CMV; he exceeded the speed limit by 10 mph.

Stephen R. Marshall

Mr. Marshall, 47, has complete loss of vision in his right eye due to a traumatic incident during childhood. The visual acuity in his right eye is no light perception, and in his left eye, 20/20. Following an examination in 2013, his optometrist noted, “In my opinion, Mr. Marshall does have sufficient vision to perform the driving tasks required to operate a commercial vehicle.” Mr. Marshall reported that he has driven tractor-trailer combinations for 29 years, accumulating 5 million miles. He holds an operator's license from Mississippi. His driving record for the last 3 years shows no crashes and no convictions for moving violations in a CMV.

Edgar H. Meraz

Mr. Meraz, 32, has had a macular hole in his left eye since 2004. The visual acuity in his right eye is 20/15, and in his left eye, 20/200. Following an examination in 2013, his ophthalmologist noted, “I believe that Mr. Meraz has sufficient vision to perform the driving tasks required to operate a commercial vehicle.” Mr. Meraz reported that he has driven straight trucks for 14 years, accumulating 70,000 miles, and tractor-trailer combinations for 12 years, accumulating 180,000 miles. He holds a Class A CDL from New Mexico. His driving record for the last 3 years shows no crashes and no convictions for moving violations in a CMV.

Ralph Reno

Mr. Reno, 55, has had central serous retinopathy in his right eye since 2003. The visual acuity in his right eye is 20/50, and in his left eye, 20/20. Following an examination in 2012, his ophthalmologist noted, “The Goldmann visual field shows a horizontal field of 140 degrees and vertical field of 130 degrees in the right and left eyes individually and together. As such, his left eye is able to compensate for the right eye so that his overall visual function is good and Mr. Reno should be able to continue in his occupation driving a commercial vehicle without restriction with his vision deficiency.” Mr. Reno reported that he has driven straight trucks for 26 years, accumulating 468,000 miles. He holds an operator's license from New Jersey. His driving record for the last 3 years shows no crashes and no convictions for moving violations in a CMV.

Glennis R. Reynolds

Mr. Reynolds, 48, has a macular scar in his right eye due to a traumatic incident in childhood. The visual acuity in his right eye is 20/200, and in his left eye, 20/20. Following an examination in 2013, his optometrist noted, “Based upon my findings and medical expertise, I Ellen M. Grubb, O.D. hereby certify Glennis Reynolds to be visually able to safely operate a commercial motor vehicle.” Mr. Reynolds reported that he has driven tractor-trailer combinations for 28 years, accumulating 2.8 million miles. He holds a Class DMA CDL from Kentucky. His driving record for the last 3 years shows no crashes and no convictions for moving violations in a CMV.

Joseph B. Saladino

Mr. Saladino, 43, has had a retinal detachment in his left eye since childhood. The visual acuity in his right eye is 20/20, and in his left eye, 20/300. Following an examination in 2013, his ophthalmologist noted, “I certify that the patient meets and/or exceeds the visual requirements to perform driving tasks required to operate a commercial vehicle.” Mr. Saladino reported that he has driven straight trucks for 24 years, accumulating 960,000 miles, and tractor-trailer combinations for 24 years, accumulating 960,000 miles. He holds a Class A CDL from Florida. His driving record for the last 3 years shows no crashes and no convictions for moving violations in a CMV.

Carlos M. Saravia

Mr. Saravia, 39, has a chorioretinal scar in his right eye due to a traumatic injury during childhood. The visual acuity in his right eye is 20/200, and in his left eye, 20/20. Following an examination in 2013, his ophthalmologist noted, “In my professional opinion, I feel that he has sufficient vision to perform the driving tasks required to operate a commercial vehicle at this time.” Mr. Saravia reported that he has driven straight trucks for 4 years, accumulating 32,000 miles. He holds an operator's license from Maryland. His driving record for the last 3 years shows no crashes and one conviction for a moving violation in a CMV; he failed to obey instructions at a traffic control device.

Glen M. Schulz

Mr. Schulz, 64, has had amblyopia in his left eye since birth. The visual acuity in his right eye is 20/20, and in his left eye, 20/400. Following an examination in 2013, his optometrist noted, “I believe that his vision is sufficient to perform the driving tasks required to operate a commercial vehicle.” Mr. Schulz reported that he has driven straight trucks for 39 years, accumulating 682,500 miles. He holds a Class A CDL from Iowa. His driving record for the last 3 years shows no crashes and no convictions for moving violations in a CMV.

Steve W. Scott

Mr. Scott, 50, has had amblyopia in his right eye since birth. The visual acuity in his right eye is 20/70, and in his left eye, 20/20. Following an examination in 2013, his optometrist noted that Mr. Scott does not have any visual field defects or field loss that would affect the safe operation of a commercial motor vehicle. Mr. Scott reported that he has driven straight trucks for 4 years, accumulating 28,000 miles, and tractor-trailer combinations for 10 years, accumulating 70,000 miles. He holds a Class A CDL from South Carolina. His driving record for the last 3 years shows no crashes and no convictions for moving violations in a CMV.

Eugene D. Self, Jr.

Mr. Self, 40, has had a prosthetic left eye since 1979. The visual acuity in his right eye is 20/20, and in his left eye, no light perception. Following an examination in 2013, his ophthalmologist noted, “Mr. Self's visual impairment does not compromise his ability to drive a commercial motor vehicle.” Mr. Self reported that he has driven buses for 7.5 years, accumulating 13,125 miles. He holds a Class C CDL from North Carolina. His driving record for the last 3 years shows no crashes and no convictions for moving violations in a CMV.

Darren B. Shields

Mr. Shields, 54, has had amblyopia in his left eye since childhood. The visual acuity in his right eye is 20/20, and in his left eye, 20/80. Following an examination in 2013, his optometrist noted, “In my medical opinion this patient has sufficient vision and agility to perform the driving tasks required to operate a commercial vehicle.” Mr. Shields reported that he has driven straight trucks for 3 years, accumulating 162,000 miles, and buses for 8 years, accumulating 96,000 miles. He holds a Class BM CDL from Nevada. His driving record for the last 3 years shows no crashes and no convictions for moving violations in a CMV.

Roye T. Skelton

Mr. Skelton, 45, has had a traumatic cataract in his right eye since 2006. The visual acuity in his right eye is counting fingers, and in his left eye, 20/20. Following an examination in 2013, his optometrist noted, “If proceeding with caution, in my opinion there is no reason this patient can not safely drive. However, it will be up to the discretion of the waiver committee to make the final decision.” Mr. Skelton reported that he has driven straight trucks for 18 years, accumulating 561,600 miles. He holds an operator's license from Mississippi. His driving record for the last 3 years shows no crashes and no convictions for moving violations in a CMV.

Robert D. Smienski

Mr. Smienski, 55, has a prosthetic right eye due to a traumatic incident during childhood. The visual acuity in his right eye is no light perception, and in his left eye, 20/20. Following an examination in 2013, his optometrist noted, “Upon conclusion of the exam, I find that Mr. Smienski has sufficient vision to perform the driving tasks to operate a commercial vehicle.” Mr. Smienski reported that he has driven straight trucks for 18 years, accumulating 540,000 miles. He holds an operator's license from Ohio. His driving record for the last 3 years shows no crashes and no convictions for moving violations in a CMV.

Justin T. Swires

Mr. Swires, 48, has a corneal scar in his left eye due to a traumatic incident in 1984. The visual acuity in his right eye is 20/15, and in his left eye, counting fingers. Following an examination in 2013, his optometrist noted, “He judges depth very well using monocular clues, and in my opinion has sufficient vision capabilities to perform the driving tasks required to operate a commercial vehicle.” Mr. Swires reported that he has driven straight trucks for 31 years, accumulating 620,000 miles, and tractor-trailer combinations for 31 years, accumulating 3.1 million miles. He holds a Class A CDL from Wyoming. His driving record for the last 3 years shows no crashes and no convictions for moving violations in a CMV.

Robert Thomas

Mr. Thomas, 48, has Commotio Retinae in his left eye due to a traumatic incident in 1985. The visual acuity in his right eye is 20/20, and in his left eye, counting fingers. Following an examination in 2013, his optometrist noted, “His central vision loss in the left eye can be compensated for by the right eye. Therefore, in my medical opinion, I feel his vision is sufficient to perform the driving tasks required to operate a commercial vehicle.” Mr. Thomas reported that he has driven straight trucks for 23 years, accumulating 115,000 miles, and tractor-trailer combinations for 23 years, accumulating 1.27 million miles. He holds a Class AM CDL from Pennsylvania. His driving record for the last 3 years shows no crashes and no convictions for moving violations in a CMV.

Clifford B. Thompson, Jr.

Mr. Thompson, 48, has a prosthetic right eye due to a traumatic incident in 2010. The visual acuity in his right eye is no light perception, and in his left eye, 20/25. Following an examination in 2013, his optometrist noted, “Field is stable . . . color vision is normal . . . I believe he is qualified for commercial driving.” Mr. Thompson reported that he has driven straight trucks for 18 years, accumulating 237,600 miles, and tractor-trailer combinations for 6 years, accumulating 288,000 miles. He holds an operator's license from South Carolina. His driving record for the last 3 years shows no crashes and no convictions for moving violations in a CMV.

Donald L. Urmston

Mr. Urmston, 50, has had ocular histoplasmosis in his left eye since 1999. The visual acuity in his right eye is 20/20, and in his left eye, counting fingers. Following an examination in 2013, his optometrist noted, “In my opinion, since Donald has 20/20 vision in one eye and good peripheral vision temporally in each eye, his vision is sufficient to drive a commercial vehicle.” Mr. Urmston reported that he has driven straight trucks for 4 years, accumulating 200,000 miles, and tractor-trailer combinations for 25 years, accumulating 1.25 million miles. He holds a Class A CDL from Ohio. His driving record for the last 3 years shows no crashes and no convictions for moving violations in a CMV.

Steven M. Veloz

Mr. Veloz, 57, has had amblyopia in his left eye since childhood. The visual acuity in his right eye is 20/20, and in his left eye, 20/100. Following an examination in 2012, his optometrist noted, “In my medical opinion, I feel that Steven Veloz has sufficient vision to perform the driving tasks equired [sic] to operate a commercial vehicle.” Mr. Veloz reported that he has driven straight trucks for 35 years, accumulating 1.93 million miles, and tractor-trailer combinations for 35 years, accumulating 2.5 million miles. He holds a Class A CDL from California. His driving record for the last 3 years shows no crashes and no convictions for moving violations in a CMV.

Stephen H. Ward

Mr. Ward, 66, has had amblyopia in his right eye since childhood. The visual acuity in his right eye is 20/400, and in his left eye, 20/20. Following an examination in 2013, his optometrist noted, “In my professional opinion, Mr. Ward has sufficient vision to perform the driving task required to operate a commercial vehicle.” Mr. Ward reported that he has driven straight trucks for 40 years, accumulating 500,000 miles, tractor-trailer combinations for 2 years, accumulating 6,000 miles, and buses for 4 years, accumulating 40,000 miles. He holds a Class A CDL from Missouri. His driving record for the last 3 years shows no crashes and no convictions for moving violations in a CMV.

Janusz K. Wis

Mr. Wis, 31, has had amblyopia in his right eye since childhood. The visual acuity in his right eye is 20/70, and in his left eye, 20/20. Following an examination in 2013, his optometrist noted, “In my opinion your vision seems to be stable and you have sufficient vision in the left eye to be able to perform the driving tasks required to operate a commercial vehicle.” Mr. Wis reported that he has driven straight trucks for 7 years, accumulating 21,000 miles, and tractor-trailer combinations for 7 years, accumulating 21,000 miles. He holds a Class AM CDL from Illinois. His driving record for the last 3 years shows no crashes and no convictions for moving violations in a CMV.

Request for Comments

In accordance with 49 U.S.C. 31136(e) and 31315, FMCSA requests public comment from all interested persons on the exemption petitions described in this notice. The Agency will consider all comments received before the close of business November 22, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2013-0168 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2013-0168 and click “Search.” Next, click “Open Docket Folder” and you will find all documents and comments related to the proposed rulemaking.

Issued on: September 24, 2013.
Larry W. Minor,
Associate Administrator for Policy.

[FR Doc. 2013-24763 Filed 10-22-13; 8:45 am]

BILLING CODE 4910-EX-P